DEPARTMENT OF COMMERCE

National Oceanic and Atmospheric Administration

RIN 0648-XE570

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Plan Development Team and Advisory Panel on Wednesday, May 4, 2016, to consider actions affecting New England Fisheries in the exclusive economic zone (EEZ). Recommendations from this group will be brought to the full Council for formal consideration and action, if appropriate.

DATES: This meeting will be held on Wednesday, May 4, 2016, at 9 a.m., to view the agenda, see SUPPLEMENTARY INFORMATION.

ADDRESSES: The meeting will be held at the Hilton Garden Inn Boston Logan Airport, 100 Boardman Street, Boston, MA 02128; telephone: (617) 571-5478; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

Recipients of recent Scallop Research Set-Aside (RSA) awards will provide a status update and summary of preliminary findings to the Scallop Plan Development Team (PDT) and Advisory Panel (AP). Presentations will include RSA projects that have not yet been used directly in the scallop management process. This meeting is not a formal review of the methods or results of these projects. Instead, this meeting is only an overview to better inform the PDT and AP of current research status and help identify future research priority recommendations. The PDT and AP will review current RSA research priorities and discuss potential recommended changes for the 2017/2018 Scallop RSA funding announcement. Other business discussed as necessary.

Special Accommodations

This meeting is physically accessible to people with disabilities. Requests for sign language interpretation or other auxiliary aids should be directed to Thomas A. Nies, Executive Director, at 978-465-0492, at least 5 days prior to the meeting date.

Authority: 16 U.S.C. 1801 et seq.

Dated: April 12, 2016.
Tracey L. Thompson,
Acting Director, Office of Sustainable Fisheries, National Marine Fisheries Service.

[FR Doc. 2016-08714 Filed 4-14-16; 8:45 am]

BILLING CODE 3510-22-P